FEDERAL ACCOUNTING STANDARDS ADVISORY BOARD

Notice of Renewal of Federal Accounting Standards Advisory Board Charter

AGENCY: Federal Accounting Standards Advisory Board.

ACTION: Notice.

Pursuant to 31 U.S.C. 3511(d), the Federal Advisory Committee Act, as amended (5 U.S.C. App.), and the FASAB Rules Of Procedure, as amended in October 2010, notice is hereby given that under the authority and in furtherance of the objectives of 31 U.S.C. 3511(d), the Secretary of the Treasury, the Director of the Office of Management and Budget, and the Comptroller General of the United States (the sponsors) have agreed to continue an advisory committee to consider and recommend accounting standards and principles for the federal government. Copies can be obtained by contacting FASAB at (202) 512-7350.

FOR FURTHER INFORMATION CONTACT: Ms. Monica R. Valentine, Executive Director, 441 G Street NW, Suite 1155, Washington, DC 20548, or call (202) 512-7350.

Authority: Federal Advisory Committee Act (5 U.S.C. App.), 31 U.S.C. 3511(d).

Dated: October 18, 2019.
Monica R. Valentine,
Executive Director.

[FR Doc. 2019-23135 Filed 10-22-19; 8:45 am]

BILLING CODE 1610-02-P